FEDERAL ACCOUNTING STANDARDS ADVISORY BOARD

Notice of Issuance of Technical Bulletin 2020-1, Loss Allowance for Intragovernmental Receivables

AGENCY: Federal Accounting Standards Advisory Board.

ACTION: Notice.

Pursuant to 31 U.S.C. 3511(d), the Federal Advisory Committee Act, as amended (5 U.S.C. App.), and the FASAB Rules Of Procedure, as amended in October 2010, notice is hereby given that the Federal Accounting Standards Advisory Board (FASAB) has issued Technical Bulletin 2020-1, Loss Allowance for Intragovernmental Receivables.

The Technical Bulletin is available on the FASAB website at https://fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

(Authority: Federal Advisory Committee Act (5 U.S.C. App.))

Dated: February 20, 2020.
Monica R. Valentine,
Executive Director.

[FR Doc. 2020-03912 Filed 2-26-20; 8:45 am]

BILLING CODE 1610-02-P